DEPARTMENT OF THE INTERIOR

Fish and Wildlife Service 2005 Federal Duck Stamp Contest

AGENCY: Fish and Wildlife Service, Interior.

ACTION: Notice.

SUMMARY: The U.S. Fish and Wildlife Service announces the date and location of the 2005 Federal Duck Stamp contest, which is open to the public. This notice is a follow-up to our March 4, 2005, Federal Register notice, in which we gave background information on the contest and preliminary information on this year's contest (70 FR 10671).

DATES: 1. The 2005 Federal Duck Stamp Contest will be held in Memphis, Tennessee, at the Memphis College of Arts, Overton Park, 1930 Poplar Avenue, Memphis, Tennessee.

2. The public may view the 2005 Federal Duck Stamp Contest entries on Sunday, September 11, 2005 from 1 p.m. to 4 p.m., and from Monday, September 12, through Tuesday, September 13, from 8:30 a.m. to 4 p.m.

3. Judging will be held on Wednesday, September 14, and Thursday, September 15, beginning at 10 a.m.

ADDRESSES: To request a complete copy of the contest rules, reproduction rights agreement, and display and participation agreement, please call 1-703-358-2000, or write to: Federal Duck Stamp Contest, U.S. Fish and Wildlife Service, Department of the Interior, 4401 North Fairfax Drive, Mail Stop MBSP-4070, Arlington, VA 22203-1622. You may also download the information from the Federal Duck Stamp Web site at http://duckstamps.fws.gov.

FOR FURTHER INFORMATION CONTACT: Mr. Ryan W. Booth, Federal Duck Stamp Office, (703) 358-2004, or by e-mail Ryan_W_Booth@fws.gov, or fax at (703) 358-2009.

Dated: July 1, 2005.
Matt J. Hogan,
Director.

[FR Doc. 05-13916 Filed 7-14-05; 8:45 am]

BILLING CODE 4310-55-P